DEPARTMENT OF THE INTERIOR

Minerals Management Service

Notice of Intent To Prepare and Scope an Environmental Impact Statement (EIS) for the Outer Continental Shelf (OCS) Oil and Gas Leasing Program for 2012-2017

AGENCY: Minerals Management Service, Interior.

ACTION: Notice of intent and request for comments.

SUMMARY: Pursuant to the National Environmental Policy Act (NEPA), the Minerals Management Service (MMS) is providing notice of its intent to prepare an EIS with respect to the OCS Oil and Gas Leasing Program for 2012-2017 and requests comments for the purposes of determining the scope of the EIS we plan to prepare.

DATES: Please submit comments and information to the MMS on scoping no later than June 30, 2010.

ADDRESSES: Interested parties may submit their written scoping comments until June 30, 2010, to Mr. J. F. Bennett, Chief, Branch of Environmental Assessment, Minerals Management Service, 381 Elden Street, MS 4042, Herndon, Virginia 20170, or online at: ocs5yeareis.anl.gov.

Before including your address, phone number, e-mail address, or other personal identifying information in your comment, you should be aware that your entire comment, including your personal identifying information, may be made publicly available at any time.

FOR FURTHER INFORMATION CONTACT: Mr. J. F. Bennett, Chief, Branch of Environmental Assessment, Minerals Management Service, 703-787-1660.

SUPPLEMENTARY INFORMATION: Pursuant to section 102(2)(C) of NEPA, the MMS intends to prepare an EIS for the new 5-year OCS oil and gas leasing program for 2012-2017. This notice starts the formal scoping process for the EIS under 40 CFR 1501.7, and solicits information regarding issues and alternatives that should be evaluated in the EIS. The EIS will analyze the potential impacts of the adoption of the proposed 5-year program.

Background

In January 2009, the previous Administration published a Draft Proposed Program (DPP) and a Notice of Intent to Prepare an EIS that set out a schedule for scoping meetings in the areas of the DPP. In February 2009, the Secretary of the Interior extended the comment period on the DPP and postponed the scoping meetings to allow time to consider further public comment before determining which areas in the DPP should be scoped for the EIS and thus be analyzed for consideration in the subsequent program proposals under section 18 of the OCS Lands Act, 43 U.S.C 1344. The fact that an area is analyzed in a 5-year EIS does not mean that it will be included in a final leasing program. However, an area must be analyzed pursuant to NEPA to be included in a 5-year program.

Areas To Be Scoped for the EIS

The draft EIS for the OCS Oil and Gas Program for 2012-2017 will evaluate offering all or portions of eight OCS planning areas for oil and gas leasing: Beaufort Sea, Chukchi Sea, and Cook Inlet, which are offshore Alaska; Western, Central, and Eastern Gulf of Mexico, the latter focusing on the southwestern third of the planning area rather than the entire area contemplated in the DPP; and South and Mid-Atlantic. These areas also will be the focus of the proposed program analyses.

Scoping Meetings

Public meetings will be held in coastal locations near these areas in June and early July 2010, to help determine the appropriate scope of the EIS in terms of geographical areas and issues. The meetings are being planned for, but not necessarily limited to:

• Kaktovik, Alaska

• Nuiqsut, Alaska

• Barrow, Alaska

• Anchorage, Alaska

• New Orleans, Louisiana;

• Mobile, Alabama;

• Tallahassee, Florida;

• Tampa/St. Petersburg, Florida;

• Savannah, Georgia and/or Wilmington, North Carolina

• Norfolk, Virginia;

• Trenton, New Jersey and/or Wilmington, Delaware; and

• Washington, DC.

Specific times and venues will be posted on the MMS website and published in the Federal Register per 40 CFR 1506.6.

The comments that MMS has received in response to the January 21, 2009 Notice of Intent to prepare an EIS (74 FR 3631) and the August 2008 Request for Comments on the preparation of a new 5-year program (73 FR 45065), and the comments received during scoping for the 2007-2012 Five Year EIS, have identified environmental issues and concerns that MMS will consider in the EIS. In summary, these include climate change as an impact factor in cumulative analyses, the effects of the OCS program on climate change, potential impacts from accidental oil spills, potential impacts to tourism and recreation activities, and ecological impacts from potential degradation of marine and coastal habitats. Additionally, alternatives will be developed and analyzed during the EIS process based on scoping comments and governmental communications. Alternatives may include increasing or decreasing the number or frequency of sales, coastal buffers, limiting areas available for leasing, and excluding parts of or entire planning areas.

Written Scoping Comments for the EIS

The MMS will consider comments for the purposes of determining the scope of the EIS we plan to prepare. Comments on the relationship between the Oil and Gas Program and the Alternative Energy Program are also welcome. Interested parties may submit their written scoping comments until June 30, 2010, to Mr. J. F. Bennett, Chief, Branch of Environmental Assessment, Minerals Management Service, 381 Elden Street, MS 4042, Herndon, Virginia 20170, or online at: ocs5yeareis.anl.gov. Before including your address, phone number, e-mail address, or other personal identifying information in your comment, you should be aware that your entire comment, including your personal identifying information, may be made publicly available at any time. While you can ask us in your comment to withhold your personal identifying information from public review, we cannot guarantee that we will be able to do so.

Cooperating Agency

The Department of the Interior invites other Federal agencies, state, tribal, and local governments to consider becoming cooperating agencies in the preparation of the EIS. We invite qualified government entities to inquire about cooperating agency status for the EIS for the proposed 5-year program. Using the guidelines from the Council on Environmental Quality (CEQ), qualified agencies and governments are those with “jurisdiction by law or special expertise.” Potential cooperating agencies should consider their authority and capacity to assume the responsibilities of a cooperating agency and to remember that an agency's role in the environmental analysis neither enlarges nor diminishes the final decision making authority of any agency involved in the NEPA process. Agencies should also consider the “Factors for Determining Cooperating Agency Status” in Attachment 1 to CEQ's January 30, 2002, Memorandum for the Heads of Federal Agencies: Cooperating Agencies in Implementing the Procedural Requirements of the National Environmental Policy Act. The appropriate pages can be found at: http://ceq.hss.doe.gov/nepa/regs/cooperating/cooperatingagenciesmemorandum.html and http://ceq.hss.doe.gov/nepa/regs/cooperating/cooperatingagencymemofactors.html.

The MMS, as the lead agency, will not provide financial assistance to cooperating agencies. Even if an organization is not a cooperating agency, opportunities will exist to provide information and comments to MMS during the normal public input phases of the NEPA/EIS process. The MMS will also consult with tribal governments on a government-to-government basis. If further information about cooperating agencies is needed, please contact Mr. James F. Bennett, at (703) 787-1660.

Dated: March 30, 2010.
S. Elizabeth Birnbaum,
Director, Minerals Management Service.

[FR Doc. 2010-7580 Filed 4-1-10; 8:45 am]

BILLING CODE 4310-MR-P